DEPARTMENT OF ENERGY

Federal Energy Regulatory Commission

Combined Notice of Filings #1

September 26, 2005.

Take notice that the Commission received the following electric rate filings:

Docket Numbers: ER02-2408-002.

Applicants: Lower Mount Bethel Energy, LLC.

Description: Lower Mount Bethel Energy, LLC submits a Triennial Market-Based Rate update in compliance with the Commission's Letter Order issued 9/18/02.

Filed Date: 09/19/2005.

Accession Number: 20050921-0084.

Comment Date: 5 p.m. Eastern Time on Tuesday, October 11, 2005.

Docket Numbers: ER03-879-002; ER03-880-002; ER03-882-002.

Applicants: D.E. Shaw Plasma Trading, L.L.C.; D.E. Shaw & Co. Energy, L.L.C.; D.E. Shaw Plasma Power, L.L.C.

Description: DE Shaw Plasma Trading, LLC et al. inform FERC of a departure from the characteristics relied upon by FERC in its 7/23/03 Order.

Filed Date: 09/15/2005.

Accession Number: 20050922-0144.

Comment Date: 5 p.m. Eastern Time on Friday, October 07, 2005.

Docket Numbers: ER05-1270-001.

Applicants: Allegheny Energy Supply Company, Inc. Monongahela Power Company.

Description: Allegheny Energy Supply Co and Monongahela Power Co amend their 7/29/05 filing to include additional information and support requested in a FERC staff letter dated 9/6/05.

Filed Date: 09/19/2005.

Accession Number: 20050920-0053.

Comment Date: 5 p.m. Eastern Time on Tuesday, October 11, 2005.

Docket Numbers: ER05-1318-001.

Applicants: Geneva Energy, LLC.

Description: Geneva Energy, LLC's substitutes an amended Rate Schedule FERC Form 1, in support of its petition for acceptance of initial rate schedule.

Filed Date: 09/19/2005.

Accession Number: 20050922-0145.

Comment Date: 5 p.m. Eastern Time on Tuesday, October 11, 2005.

Docket Numbers: ER05-1414-001.

Applicants: San Diego Gas & Electric Company.

Description: San Diego Gas & Electric Co submits Substitute First Revised Sheet Nos. 129, 131, 132, and 148 of its Rate Schedule FERC Service Agreement No. 12.

Filed Date: 09/19/2005.

Accession Number: 20050920-0051.

Comment Date: 5 p.m. Eastern Time on Tuesday, October 11, 2005.

Docket Numbers: ER05-1489-000.

Applicants: Craven County Wood Energy Limited Partnership.

Description: Craven County Wood Energy Limited Partnership's application for order approving market-based rates, FERC Electric Tariff, Original Volume No. 2, and a Code of Conduct.

Filed Date: 09/19/2005.

Accession Number: 20050920-0050.

Comment Date: 5 p.m. Eastern Time on Tuesday, October 11, 2005.

Docket Numbers: ER05-1490-000.

Applicants: Midwest Independent Transmission System Operator, Inc.

Description: Midwest Independent Transmission System Operator, Inc. and the Midwest ISO Transmission Owners submit revisions to the Midwest ISO Agreement, and revisions to Midwest ISO Tariff Schedule 21.

Filed Date: 09/12/2005.

Accession Number: 20050921-0082.

Comment Date: 5 p.m. Eastern Time on Tuesday, October 11, 2005.

Docket Numbers: ER05-1491-000.

Applicants: Vermont Yankee Nuclear Power Corporation.

Description: Vermont Yankee Nuclear Power Corp submits a market-based sales tariff, designated as its FERC Elec Tariff, Original Volume 1, & requests FERC approval to sell electric energy & capacity at market-based rates.

Filed Date: 09/19/2005.

Accession Number: 20050921-0083.

Comment Date: 5 p.m. Eastern Time on Tuesday, October 11, 2005.

Docket Numbers: ER05-17-005.

Applicants: Trans-Elect NTD Path 15, LLC.

Description: Trans-Elect NTD Path 15, LLC's request that FERC issue an order accepting a compliance filing, without conditions, on or before 10/21/05.

Filed Date: 09/19/2005.

Accession Number: 20050921-0085.

Comment Date: 5 p.m. Eastern Time on Tuesday, October 11, 2005.

Docket Numbers: ER99-2342-004, -005; ER01-931-008, -009; ER01-930-008, -009; ER96-1563-021, -022; ER99-415-007, -008; ER02-510-004, -005; ER02-507-004, -005; ER02-1000-005, -006

Applicants: Tampa Electric Company; Panda Gila River, L.P.; Union Power Partners, L.P. TECO EnergySource, Inc.; Commonwealth Chesapeake Company, L.L.C., TPS Dell, LLC; TPS McAdams, LLC; TECO-PANDA Generating Company, L.P.

Description: Tampa Electric Co et al. submit the available transfer capability data from the Florida Open Access Same-Time Information System for 2003 and revision to their respective market-based rate tariffs.

Filed Date: 09/12/2005.

Accession Number: 20050914-0073.

Comment Date: 5 p.m. Eastern Time on Tuesday, October 11, 2005.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-5388 Filed 9-30-05; 8:45 am]

BILLING CODE 6717-01-P